DEPARTMENT OF COMMERCE

International Trade Administration

[A-570-827]

Notice of Extension of Time Limit for the Final Results of Antidumping Duty Administrative Review: Certain Cased Pencils from the People's Republic of China

AGENCY: Import Administration, International Trade Administration, Department of Commerce.

EFFECTIVE DATE: May 20, 2005.

FOR FURTHER INFORMATION CONTACT: Paul Stolz or Erin Begnal, AD/CVD Operations, Office 8, Import Administration, International Trade Administration, U.S. Department of Commerce, 14th Street and Constitution Avenue, NW., Washington, DC 20230; telephone: (202) 482-4474 and (202) 482-1442, respectively.

SUPPLEMENTARY INFORMATION: On January 12, 2005, the Department of Commerce (the Department) published in the Federal Register the preliminary results of the administrative review of the antidumping duty order on certain cased pencils from the People's Republic of China. See Certain Cased Pencils from the People's Republic of China; Preliminary Results of Antidumping Duty Administrative Review and Intent to Rescind in Part, 70 FR 2115 (January 12, 2005). Pursuant to section 751(a)(3)(A) of the Tariff Act of 1930, as amended (the Act), the final results are currently due on May 12, 2005.

Extension of Time Limit for Final Results

Section 751(a)(3)(A) of the Trade Act as amended (the Act) provides that the Department may extend the time limit for completion of the final results of an administrative review to a maximum of 180 days if it determines that it is not practicable to complete the final results within the statutory time limit of 120 days from the date on which the preliminary results were published. The Department has determined that, due to the complexity of the issues arising from the calculation of surrogate values, it is not practicable to complete this review within the time limits mandated by section 751(a)(3)(A) of the Act and section 19 CFR 351.213(h)(1) of the Department's regulations. Therefore, the Department is extending the time limit for the completion of these final results until no later than July 11, 2005, which is 180 days from the date on which the notice of the preliminary results was published.

This notice is published in accordance with section 751(a)(3)(A) of the Act and section 19 CFR 351.213(h)(2) of the Department's regulations.

Dated: May 12, 2005.
Barbara E. Tillman,
Acting Deputy Assistant Secretary for Import Administration.

[FR Doc. E5-2560 Filed 5-19-05; 8:45 am]

BILLING CODE 3510-DS-S